DEPARTMENT OF ENERGY

Federal Energy Regulatory Commission

Combined Notice of Filings #2

Take notice that the Commission received the following electric rate filings:

Docket Numbers: ER15-1387-006.

Applicants: Appalachian Power Company, PJM Interconnection, L.L.C.

Description: Compliance filing: PJM TOs submit compliance filing per Commission's 8/30/2019 order in ER15-1387 to be effective 5/25/2015.

Filed Date: 9/27/19.

Accession Number: 20190927-5106.

Comments Due: 5 p.m. ET 10/18/19.

Docket Numbers: ER19-2643-001.

Applicants: Duke Energy Florida, LLC.

Description: Tariff Amendment: DEF OATT Revisions (FRCC Dissolution Amendment) to be effective 9/1/2019.

Filed Date: 9/27/19.

Accession Number: 20190927-5098.

Comments Due: 5 p.m. ET 10/18/19.

Docket Numbers: ER19-2888-000.

Applicants: PHWD Affiliate LLC.

Description: § 205(d) Rate Filing: Revised Market-Based Rate Tariff to be effective 9/28/2019.

Filed Date: 9/27/19.

Accession Number: 20190927-5073.

Comments Due: 5 p.m. ET 10/18/19.

Docket Numbers: ER19-2889-000.

Applicants: Refresh Wind, LLC.

Description: § 205(d) Rate Filing: Revised Market-Based Rate Tariff to be effective 9/28/2019.

Filed Date: 9/27/19.

Accession Number: 20190927-5074.

Comments Due: 5 p.m. ET 10/18/19.

Docket Numbers: ER19-2890-000.

Applicants: Refresh Wind 2, LLC.

Description: § 205(d) Rate Filing: Revised Market-Based Rate Tariff to be effective 9/28/2019.

Filed Date: 9/27/19.

Accession Number: 20190927-5075.

Comments Due: 5 p.m. ET 10/18/19.

Docket Numbers: ER19-2891-000.

Applicants: Avista Corporation.

Description: § 205(d) Rate Filing: Avista Corp E Greenacres Unsigned SA T1157 to be effective 10/1/2019.

Filed Date: 9/27/19.

Accession Number: 20190927-5077.

Comments Due: 5 p.m. ET 10/18/19.

Docket Numbers: ER19-2892-000.

Applicants: Terra-Gen 251 Wind, LLC.

Description: § 205(d) Rate Filing: Revised Market-Based Rate Tariff to be effective 9/28/2019.

Filed Date: 9/27/19.

Accession Number: 20190927-5083.

Comments Due: 5 p.m. ET 10/18/19.

Docket Numbers: ER19-2893-000.

Applicants: El Paso Electric Company.

Description: § 205(d) Rate Filing: Depreciation Rate Update Associated with Rate Schedule No. 18 to be effective 8/1/2017.

Filed Date: 9/27/19.

Accession Number: 20190927-5085.

Comments Due: 5 p.m. ET 10/18/19.

Docket Numbers: ER19-2894-000.

Applicants: Terra-Gen Dixie Valley, LLC.

Description: § 205(d) Rate Filing: Revised Market-Based Rate Tariff to be effective 9/28/2019.

Filed Date: 9/27/19.

Accession Number: 20190927-5087.

Comments Due: 5 p.m. ET 10/18/19.

Docket Numbers: ER19-2895-000.

Applicants: Terra-Gen Energy Services, LLC.

Description: § 205(d) Rate Filing: Revised Market-Based Rate Tariff to be effective 9/28/2019.

Filed Date: 9/27/19.

Accession Number: 20190927-5092.

Comments Due: 5 p.m. ET 10/18/19.

Docket Numbers: ER19-2896-000.

Applicants: Terra-Gen VG Wind, LLC.

Description: § 205(d) Rate Filing: Revised Market-Based Rate Tariff to be effective 9/28/2019.

Filed Date: 9/27/19.

Accession Number: 20190927-5095.

Comments Due: 5 p.m. ET 10/18/19.

Docket Numbers: ER19-2897-000.

Applicants: NSTAR Electric Company.

Description: § 205(d) Rate Filing: Third Supplement to Stony Brook ? Ludlow Agreement to be effective 10/1/2019.

Filed Date: 9/27/19.

Accession Number: 20190927-5096.

Comments Due: 5 p.m. ET 10/18/19.

Docket Numbers: ER19-2898-000.

Applicants: Voyager Wind I, LLC.

Description: § 205(d) Rate Filing: Revised Market-Based Rate Tariff to be effective 9/28/2019.

Filed Date: 9/27/19.

Accession Number: 20190927-5099.

Comments Due: 5 p.m. ET 10/18/19.

Docket Numbers: ER19-2899-000.

Applicants: Voyager Wind II, LLC.

Description: § 205(d) Rate Filing: Revised Market-Based Rate Tariff to be effective 9/28/2019.

Filed Date: 9/27/19.

Accession Number: 20190927-5101.

Comments Due: 5 p.m. ET 10/18/19.

Docket Numbers: ER19-2900-000.

Applicants: Yavi Energy, LLC.

Description: § 205(d) Rate Filing: Revised Market-Based Rate Tariff to be effective 9/28/2019.

Filed Date: 9/27/19.

Accession Number: 20190927-5102.

Comments Due: 5 p.m. ET 10/18/19.

Docket Numbers: ER19-2901-000.

Applicants: Bronco Plains Wind, LLC.

Description: Baseline eTariff Filing: Bronco Plains Wind, LLC Application for Market-Based Rates to be effective 11/27/2019.

Filed Date: 9/27/19.

Accession Number: 20190927-5144.

Comments Due: 5 p.m. ET 10/18/19.

Take notice that the Commission received the following electric securities filings:

Docket Numbers: ES19-63-000.

Applicants: Mid-Atlantic Interstate Transmission, LL.

Description: Application under Section 204 of the Federal Power Act for Authorization to Issue Securities of Mid-Atlantic Interstate Transmission, LLC.

Filed Date: 9/27/19.

Accession Number: 20190927-5105.

Comments Due: 5 p.m. ET 10/18/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 27, 2019.
Nathaniel J. Davis, Sr.,
Deputy Secretary.

[FR Doc. 2019-21500 Filed 10-2-19; 8:45 am]

BILLING CODE 6717-01-P